DEPARTMENT OF THE INTERIOR

National Park Service

Notice of Intent to Repatriate Cultural Items: University of Alaska Museum, Fairbanks, AK

AGENCY: National Park Service, Interior.

ACTION: Notice.

Notice is here given in accordance with the Native American Graves Protection and Repatriation Act (NAGPRA), 25 U.S.C. 3005, of the intent to repatriate cultural items in the possession of the University of Alaska Museum, Fairbanks, AK, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1942, cultural items were donated to the University of Alaska Museum by Art Glover and accessioned (Accession number 217). According to accession ledger records, the cultural items had been removed from a burial on the Snake River, Walla Walla, WA. The 85 unassociated funerary objects are 74 stone arrowheads, 1 stone mortar, 1 leather pad, 1 iron axe head, 1 metal rifle butt, 1 iron knife blade, 1 antler digging stick handle, 1 stone club with wood handle, 1 hammerstone, 1 wood and iron fishhook, 1 carved wood seal figure, and 1 necklace with three boxes of beads.

These items are typical of funerary objects found in other burials excavated in the same geographic region. Funerary objects, including the iron axe head and metal rifle butt, place the funerary objects within the historic period. The Snake River borders Walla Walla County, WA, along the north. The Snake River and the surrounding land in this region are within the ceded lands and traditional use territory of the Weyiiletpuu (Cayuse), Imatalamama (Umatilla), and Waluulapam (Walla Walla) tribes. These three tribes are members of the Confederated Tribes of the Umatilla Indian Reservation, Oregon.

Officials of the University of Alaska Museum have determined that, pursuant to 25 U.S.C. 3001 (3)(B), the 85 cultural items described above are reasonably believed to have been placed with or near individual human remains at the time of death or later as part of the death rite or ceremony and are believed, by a preponderance of the evidence, to have been removed from a specific burial site of a Native American individual. Officials of the University of Alaska Museum also have determined that, pursuant to 25 U.S.C. 3001 (2), there is a relationship of shared group identity that can be reasonably traced between the unassociated funerary objects and the Confederated Tribes of the Umatilla Indian Reservation, Oregon.

Representatives of any other Indian tribe that believes itself to be culturally affiliated with the unassociated funerary objects should contact Mr. James Whitney, Archaeology Collections Manager, University of Alaska Museum, 907 Yukon Dr., Fairbanks, AK 99775-6960, telephone (907) 474-6943, before August 13, 2008. Repatriation of the unassociated funerary objects to the Confederated Tribes of the Umatilla Indian Reservation, Oregon may proceed after that date if no additional claimants come forward.

The University of Alaska Museum is responsible for notifying the Confederated Tribes of the Umatilla Indian Reservation, Oregon that this notice has been published.

Dated: June 16, 2008
Sherry Hutt,
Manager, National NAGPRA Program.

[FR Doc. E8-15911 Filed 7-11-08; 8:45 am]

BILLING CODE 4312-50-S